DEPARTMENT OF HEALTH AND HUMAN SERVICES

42 CFR Part 36

Establishment of the Negotiated Rulemaking Committee on Joint Tribal and Federal Self-Governance

AGENCY: Indian Health Service, HHS.

ACTION: Establishment of the Negotiated Rulemaking Committee on Joint Tribal and Federal Self-Governance.

SUMMARY: Notice is hereby given that the Secretary of Health and Human Services has established a Negotiated Rulemaking Committee on Joint Tribal and Federal Self-Governance (Committee) to negotiate and develop a proposed rule implementing the Tribal Self-Governance Amendments of 2000 (the Act). It is our intent to publish the proposed rule for notice and comment no later than one year after the date of enactment of the Act (August 18, 2000 + one year), as required by section 517(a)(2) of the Act.

FOR FURTHER INFORMATION CONTACT: Paula Williams, Director, Office of Tribal Self-Governance, Indian Health Service, 5600 Fishers Lane, Room 5A-55, Rockville, MD 20857, Telephone 301-443-7821. (This is not a toll-free number.)

SUPPLEMENTARY INFORMATION: The Notice of Intent to establish the Negotiated Rulemaking Committee on Joint Tribal and Federal Self-Governance (Committee) was published in the Federal Register on December 5, 2000 (65 FR 75906). In the Notice of Intent, we proposed a rulemaking committee of representatives from 12 self-governance tribes, 11 non self-governance tribes, and 7 federal officials totaling 30 members. The Notice of Intent established a deadline of January 4, 2001, for submission of written comments. We received 20 written comments that fell into three categories. The first included comments recommending that a greater majority of self-governance tribes be represented on the Committee with some specifying a 2/3 majority and others a 2/1 majority over non self-governance tribal representatives. The second category included comments recommending that the federal representation include a person at the Area Office or field level. The third category included four nominations for individuals to serve on the Committee as well as comments endorsing and/or agreeing to serve on the Committee.

The comments provided valuable input from tribes, organizations, and individuals that have an interest in the proposed rule. However, in order to change the composition as suggested by the comments, the Committee would need to be increased to more than 30 members. Carrying out the negotiated rulemaking process with a committee larger than 30 members could be cumbersome and reaching consensus could present a challenge, particularly within the limited timeframe in which the Committee is authorized to promulgate the rules.

Section 517(b) of the Act (Pub. L. 106-260) specifies the following:

(1) In General—A negotiated rulemaking committee established pursuant to Section 565 of Title 5, United States Code, to carry out this section shall have as its members only Federal and tribal government representatives, a majority of whom shall be nominated by and be representative of Indian tribes with funding agreements under this Act.

(2) Requirements—The committee shall confer with, and accommodate participation by, representatives of Indian tribes, inter-tribal consortia, tribal organizations, and individual tribal members.

The proposed committee of 12 self-governance tribes, 11 non self-governance tribes and 7 federal officials meets the requirements of the Act. Legislative history in both the House and the Senate makes it clear that “a majority of who” in sec. 517(b)(1) refers to a majority of the tribal representatives and not a majority of the entire committee. Additionally, the negotiated rulemaking process and documents must be open to the public. Individuals that are not voting members of the Committee will have opportunity to attend meetings and to give input to the members of the Committee.

Therefore, the number of Committee members will remain at 30, and the members will remain the same as those published in the Federal Register.

Dated: March 12, 2001.
Michael H. Trujillo,
Assistant Surgeon General and Director, Indian Health Service.

[FR Doc. 01-6549 Filed 3-13-01; 11:45 am]

BILLING CODE 4160-16-M